DEPARTMENT OF ENERGY

Federal Energy Regulatory Commission

[Docket No. CP01-384-003]

Islander East Pipeline Company, L.L.C.; Notice of Pro Forma Tariff Compliance Filing

May 2, 2003.

Take notice that on April 25, 2003, Islander East Pipeline Company, L.L.C. (Islander East) tendered for filing its Pro Forma FERC Gas Tariff, Volume No. 1.

Islander East states that it is filing its pro forma tariff to comply with the December 21, 2001, September 19, 2002 and March 27, 2003 Commission Orders in Docket Nos. CP01-384, et al. Specifically, Islander East states that it has revised its pro forma tariff to comply with the Commission's Order No. 637 and Order Nos. 587-O and 587-R requirements. Islander East asserts that the proposed tariff also reflects minor tariff revisions for purposes of clarity.

Islander East states that complete copies of the filing are being mailed to customers and interested state commissions. Islander East further states that due to the voluminous nature of Appendices B (clean tariff) and C (redlined tariff), copies of this filing without Appendices B and C are being mailed to all other parties on the Commission's Official Service List in the above referenced docket.

Any person desiring to protest said filing should file a protest with the Federal Energy Regulatory Commission, 888 First Street, NE., Washington, DC 20426, in accordance with Section 385.211 of the Commission's Rules and Regulations. All such protests must be filed on or before the comment date below. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: May 16, 2003.

Magalie R. Salas,
Secretary.

[FR Doc. 03-11501 Filed 5-7-03; 8:45 am]

BILLING CODE 6717-01-P